DEPARTMENT OF COMMERCE

National Oceanic and Atmospheric Administration

RIN 0648-BA53

Fisheries of the Caribbean, Gulf of Mexico, and South Atlantic; Snapper-Grouper Fishery off the South Atlantic States; Amendment 22; Correction

AGENCY: National Marine Fisheries Service (NMFS), National Oceanic and Atmospheric Administration (NOAA), Commerce.

ACTION: Supplemental Notice of Intent (NOI); correction; extension of public comment period.

SUMMARY: This document contains a correction to a supplemental NOI published in the Federal Register on August 2, 2013, regarding the implementation of management measures described in Amendment 22 to the Fishery Management Plan for the Snapper-Grouper Fishery in the South Atlantic Region (Amendment 22). The document contained an incorrect docket number in the ADDRESSES section. This document corrects that mistake. NMFS is extending until October 3, 2013, the period for public comment regarding the management measures described in Amendment 22. NMFS is extending the comment period to ensure there is adequate time to submit complete responses.

DATES: This correction is effective August 19, 2013. Comments on the supplemental NOI to Amendment 22, published at 78 FR 46923, August 2, 2013, should be submitted on or before October 3, 2013.

FOR FURTHER INFORMATION CONTACT: Anne Marie Eich, telephone: 727-209-5968, email: AnneMarie.Eich@noaa.gov.

SUPPLEMENTARY INFORMATION: In FR Doc. 2013-18676, appearing on page 46924, in the Federal Register of August 2, 2013, in the first column, correct the first bullet under ADDRESSES section to read as follows:

• Electronic Submission: Submit all electronic public comments via the Federal e-Rulemaking Portal. Go to www.regulations.gov/#!docketDetail;D=NOAA-NMFS-2010-0264, click the “Comment Now!” icon, complete the required fields, and enter or attach your comments.

Dated: August 14, 2013.
James P. Burgess,
Acting Deputy Director, Office of Sustainable Fisheries, National Marine Fisheries Service.

[FR Doc. 2013-20183 Filed 8-16-13; 8:45 am]

BILLING CODE 3510-22-P